DEPARTMENT OF LABOR

Employment and Training Administration

[TA-W-61,541]

South Indiana Lumber Company, Inc., Liberty, KY; Notice of Negative Determination on Reconsideration

On August 3, 2007, the Department issued an Affirmative Determination Regarding Application for Reconsideration for the workers and former workers of the subject firm. The notice was published in the Federal Register on August 14, 2007 (72 FR 45450).

The petition for the workers of South Indiana Lumber Company, Inc., Liberty, Kentucky engaged in production of furniture blanks, stair balusters, and handle blanks was denied because the “contributed importantly” group eligibility requirement of Section 222 of the Trade Act of 1974, as amended, was not met. The subject firm did not import furniture blanks, stair balusters, and handle blanks nor did it shift production to a foreign country during the relevant period. The “contributed importantly” test is generally demonstrated through a survey of the workers' firm's customers. The survey revealed no imports of furniture blanks, stair balusters, and handle blanks during the relevant period.

The petitioners filed a request for reconsideration and requested that workers of South Indiana Lumber Company, Inc., Liberty, Kentucky be considered eligible for TAA as a secondary affected company. The petitioner provided the names of two TAA certified companies to which the subject firm allegedly supplied products during the relevant time period.

A company official was contacted to verify whether the subject firm supplied furniture blanks, stair balusters, and handle blanks to the companies provided by the petitioner. The company official stated that South Indiana Lumber Company, Inc., Liberty, Kentucky did not sell to these TAA certified facilities and that these specific facilities were not customers of the subject firm during the relevant time period. The Department conducted a further investigation and determined that none of the direct customers of the subject firm were certified eligible for TAA during the relevant time period.

Furthermore, the Department requested an additional list of customers from the subject firm and conducted a new customer survey regarding their purchases of furniture blanks, stair balusters, and handle blanks in 2005, 2006 and January through May of 2007 over the corresponding 2006 period. This survey revealed no imports of furniture blanks, stair balusters, and handle blanks during the relevant time period.

Conclusion

After reconsideration, I affirm the original notice of negative determination of eligibility to apply for worker adjustment assistance for workers and former workers of South Indiana Lumber Company, Inc., Liberty, Kentucky.

Signed at Washington, DC this 29th day of August, 2007.
Elliott S. Kushner,
Certifying Officer, Division of Trade Adjustment Assistance.

[FR Doc. E7-17476 Filed 9-4-07; 8:45 am]

BILLING CODE 4510-FN-P